DEPARTMENT OF LABOR

Employment and Training Administration

[TA-W-50,672]

North American Marine Jet, Inc., Benton, AR; Notice of Termination of Investigation

Pursuant to section 221 of the Trade Act of 1974, an investigation was initiated on January 24, 2003, in response to a petition filed by the rapid response specialist on behalf of workers at North American Marine Jet, Inc., Benton, Arkansas.

The petitioner has requested that the petition be withdrawn. Consequently, the investigation has been terminated.

Signed in Washington, DC this 7th day of March, 2003.
Richard Church,
Certifying Officer, Division of Trade Adjustment Assistance.

[FR Doc. 03-7203 Filed 3-25-03; 8:45 am]

BILLING CODE 4510-30-P